DEPARTMENT OF TRANSPORTATION

National Highway Traffic Safety Administration

[Docket No. NHTSA-2012-0021]

National Emergency Medical Services Advisory Council (NEMSAC); Correction to the Notice of Federal Advisory Committee Meeting

AGENCY: National Highway Traffic Safety Administration (NHTSA), U.S. Department of Transportation (DOT).

ACTION: Correction to notice of the National Emergency Medical Services Advisory Council Meeting on March 29, 2012, to alter the start time from 1 p.m. EST to 10 a.m. EDT and to adjust other times from Eastern Standard Time to Eastern Daylight Time.

SUMMARY: NHTSA is issuing a correction to a published notice of a meeting of the NEMSAC to be held in the Metropolitan Washington, DC area on March 28-30, 2012. This notice announces the correct date, time, and location of the meeting, which will be open to the public. The purpose of NEMSAC is to provide a nationally recognized council of emergency medical services (EMS) representatives and consumers to provide advice and recommendations regarding EMS to DOT's National Highway Traffic Safety Administration.

DATES: The NEMSAC meeting will take place over two and a half days and be held on

• Wednesday March 28, 2012, from 9 a.m. to 5:30 p.m. EDT;

• Thursday March 29, 2012, from 10 a.m. to 5:30 p.m. EDT; and

• Friday March 30, 2012, from 8 a.m. to 12 p.m. EDT.

NEMSAC committees will meet from 8 a.m. to 10 a.m. EDT on March 29, 2012. Public comment periods will be scheduled throughout the day of March 28, 2012, as well as from 3:30 p.m. to 4:30 p.m. EDT on March 29, 2012.

ADDRESSES: The meeting will be held on the 8th floor of the FHI 360 Conference Center at 1825 Connecticut Avenue NW., Washington, DC 20009.

FOR FURTHER INFORMATION CONTACT: Drew Dawson, Director, U.S. Department of Transportation, Office of Emergency Medical Services, 1200 New Jersey Avenue SE., NTI-140, Washington, DC 20590, telephone number (202) 366-9966; email Drew.Dawson@dot.gov.

SUPPLEMENTARY INFORMATION: Notice of this meeting is given under the Federal Advisory Committee Act, Public Law 92-463, as amended (5 U.S.C. App.). NEMSAC will meet on March 28-30, 2012, at the FHI 360 Conference Center at 1825 Connecticut Avenue NW., Washington, DC 20009.

Agenda of National EMS Advisory Council Meeting, March 28-30, 2012

The tentative agenda includes the following:

Wednesday, March 28, 2012

(1) Opening Remarks

(2) History and Overview of the EMS Education Agenda for the Future

(3) Panel Discussion #1—Successes and Challenges in Implementing the Current Agenda

(4) Panel Discussion #2—Opportunities and Challenges in Revising the Agenda

(5) Panel Discussion #3—The Process to Revise the Agenda

(6) Next Steps

Thursday, March 29, 2012

(1) Opening Remarks

(2) Review and Approval of Minutes of Last Meeting

(3) Update from NHTSA Office of EMS

(4) Federal Partner Update

(5) Request for Input from the Federal Interagency Committee on EMS (FICEMS)

(6) Presentations from NEMSAC Committees

(7) Public Comment Period

Friday, March 30, 2012

(1) Deliberations of Committee Documents

(2) Discussion of New and Emerging Issues

(3) Unfinished Business/Continued Discussion from Previous Day

(4) Next Steps and Adjourn

Public comment periods will be scheduled throughout the day of March 28, 2012, as well as from 3:30 p.m. to 4:30 p.m. EDT on March 29, 2012. Written comments or requests to make oral presentations must be received by March 21, 2012, by emailing nemsac@dot.gov. In order to allow as many people as possible to speak, speakers are requested to limit their remarks to 5 minutes.

Public Attendance: This meeting will be open to the public. There will not be a teleconference option for this meeting. Individuals wishing to attend must register online at www.regonline.com/NEMSAC no later than March 26, 2012.

Minutes of the NEMSAC Meeting will be available to the public online through www.EMS.gov.

Issued on: March 6, 2012.
Jeffrey P. Michael,
Associate Administrator for Research and Program Development.

[FR Doc. 2012-5839 Filed 3-9-12; 8:45 am]

BILLING CODE 4910-59-P